DEPARTMENT OF ENERGY

Federal Energy Regulatory Commission

[Docket No. CP00-392-000]

Stanfield Hub Services, LLC; Notice of Petition

June 23, 2000.

Take notice that on June 19, 2000, Stanfield Hub Services, LLC (Stanfield), 200 S.W. Market Street, Suite 1750, Portland, Oregon 97201, filed in Docket No. CP00-392-000, a petition, pursuant to Rule 207(a)(5) of the Commission's Rules of Practice and Procedure (18 CFR 387.207(a)(5)), and section 7(c)(1)(B) of the Natural Gas Act, seeking approval of a temporary exemption from certificate requirements, all as more fully set forth in this petition which is on file with the Commission and open to public inspection. This filing may be viewed on the web at http://www.ferc.us/online/rims.htm (call 202-208-2222 for assistance). The Stanfield has requested expedited consideration of this Petition.

Specifically, Stanfield seeks authorization to drill up to eight test wells located in Benton County, Washington. Stanfield states that the test wells and related testing and developments are necessary to enable Stanfield to investigate the feasibility of developing an underground natural gas storage project.

Any questions regarding this petition should be directed to Michael C. Dotten or Natalie L. Hocken; Counsel to Stanfield Hub Services, LLC; 200 S.W. Market, Suite 1750, Portland, Oregon 97201-5718 at (508) 227-7400 (Voice) or (503) 241-0950 (FAX).

Any person desiring to be heard or making any protest with reference to said petition should on or before July 14, 2000, file with the Federal Energy Regulatory Commission, 888 First Street, NE., Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. The Commission's rules require that protestors provide copies of their protests to the party or person to whom the protests are directed. Any person wishing to become a party to a proceeding or to participate as a party in any hearing therein must file a motion to intervene in accordance with the Commission's Rules.

Take further notice that, pursuant to the authority contained in and subject to the jurisdiction conferred upon the Federal Energy Regulatory Commission by Sections 7 and 15 of the NGA and the Commission's Rules of Practice and Procedure, a hearing will be held without further notice before the Commission or its designee on this petition if no motion to intervene is filed within the time required herein, if the Commission on its own review of the matter finds that a grant of the requested exemption is required by the public convenience and necessity. If a motion for leave to intervene is timely filed, of if the Commission on its own motion believes that a formal hearing is required, further notice of such hearing will be duly given.

Under the procedure herein provided for, unless otherwise advised, it will be uncessary for Stanfield to appear or be represented at the hearing.

Linwood A. Watson, Jr.,
Acting Secretary.

[FR Doc. 00-16421 Filed 6-28-00; 8:45 am]

BILLING CODE 6717-01-M